Executive Order 14126 of September 6, 2024

Investing in America and Investing in American Workers

By the authority vested in me as President by the Constitution and the laws of the United States of America, it is hereby ordered as follows:

Section 1. Policy. The Federal Government has made significant strides in implementing the Investing in America agenda, a historic set of recently enacted laws aimed at rebuilding American infrastructure, bringing back American manufacturing, and catalyzing a clean energy economy. That agenda has been furthered by Executive Order 14082 of September 12, 2022 (Implementation of the Energy and Infrastructure Provisions of the Inflation Reduction Act of 2022), and Executive Order 14080 of August 25, 2022 (Implementation of the CHIPS Act of 2022). As implementation of the Investing in America agenda continues, it is essential that it supports the creation of well-paying jobs, especially union jobs, that improve opportunities for millions of Americans. Investing in American workers is critical to growing the economy equitably and resiliently, increasing our Nation's competitiveness, and ensuring our Nation's economic security. Workers understand the value of a good job that provides economic security for them and their families. Many companies also recognize that providing good-quality jobs while promoting workers' free and fair choice to join a union makes those companies employers of choice, creating a clear competitive advantage.

The Federal Government has long promoted high labor standards to ensure fair competition, stability, and efficiency on federally assisted projects. The use of high labor standards on federally assisted projects, such as the use of prevailing wages, project labor agreements, and equal employment opportunity policies, dates back almost a century. These tools ensure timely and economical completion of projects, provide a reliable source of highly skilled workers, support equitable workforce development, and improve worker health and safety on the job, while also improving outcomes for the communities in which projects are located. But these tools can and should be employed to a greater extent than they have been in the past.

For instance, providing incentives for federally assisted projects with high labor standards—including those using collective bargaining agreements, project labor agreements, and certain community benefits agreements—drives efficient project completion while also supporting high-quality jobs, worker safety, and broader investment in communities. Ensuring that workers on federally assisted projects are paid competitive and equitable wages will enhance worker productivity, generate higher-quality work, and reduce turnover, providing value for taxpayers. Promoting inclusivity, with equal opportunity for all qualified workers, will help ensure that federally assisted projects have the workforce needed to implement the Investing in America agenda.

Therefore, it is the policy of my Administration to promote the creation of equitable workforce development pathways for workers to obtain good jobs that pay family-sustaining wages, provide critical benefits, prevent workplace discrimination, ensure worker safety, and allow workers a free and fair chance to join a union.

Sec. 2. Definitions. For purposes of this order:

(a) The term “implementing agencies” means the Department of the Interior, the Department of Agriculture, the Department of Commerce, the Department of Labor, the Department of Housing and Urban Development, the Department of Transportation, the Department of Energy, the Department of Education, the Department of Homeland Security, and the Environmental Protection Agency.

(b) The term “community benefits agreement” means an agreement signed by a developer and one or more community benefit groups—coalitions that are composed of neighborhood associations, faith-based organizations, unions, environmental groups, or other stakeholders—that identifies the community benefits a developer agrees to deliver in return for community support of the project.

(c) The term “Federal financial assistance” means funds obtained from the Federal Government or borrowed on the credit of the Federal Government pursuant to grants (whether formula or discretionary), loans, or rebates, or projects undertaken pursuant to any Federal program involving such grants, loans, or rebates.

(d) The term “Investing in America agenda” means the American Rescue Plan Act of 2021 (Public Law 117-2); the Infrastructure Investment and Jobs Act (Public Law 117-58); division A of Public Law 117-167, known as the Creating Helpful Incentives to Produce Semiconductors (CHIPS) Act of 2022; and Public Law 117-169, commonly referred to as the Inflation Reduction Act of 2022.

(e) The term “pre-apprenticeship program” has the meaning given to that term in 29 CFR 30.2.

(f) The term “pre-award processes” means the negotiations, interactions, and other communications between an implementing agency and an applicant after proposal submission and prior to award.

(g) The term “project labor agreement” means a pre-hire collective bargaining agreement with one or more labor organizations that establishes the terms and conditions of employment for a specific construction project and is an agreement described in 29 U.S.C. 158(f).

(h) The term “registered apprenticeship” means an industry-driven career pathway through which employers can develop and prepare their future workforces and individuals can obtain paid training; work experience; progressive wage increases; classroom instruction; and a portable, nationally recognized credential. A registered apprenticeship must meet the requirements for registration as set forth in 29 CFR parts 29 and 30.

(i) The term “underserved communities” refers to those populations as well as geographic communities that have been systematically denied the opportunity to participate fully in aspects of economic, social, and civic life, as defined in section 2 of Executive Order 13985 of January 20, 2021 (Advancing Racial Equity and Support for Underserved Communities Through the Federal Government), section 6 of Executive Order 14020 of March 8, 2021 (Establishment of the White House Gender Policy Council), and section 10 of Executive Order 14091 of February 16, 2023 (Further Advancing Racial Equity and Support for Underserved Communities Through the Federal Government), and additionally includes formerly incarcerated individuals.

(j) The term “public workforce system” has the meaning given to the term “workforce development system” in 29 U.S.C. 3102(67).

Sec. 3. Implementation Priorities. In selecting projects for receiving Federal financial assistance from the Investing in America agenda, implementing agencies shall consider actions that, as appropriate and consistent with applicable law:

(a) Prioritize projects for selection that provide a clear plan for efficient project delivery by promoting positive labor-management relations. Examples of instruments and policies that implementing agencies could consider encouraging applicants to adopt, as appropriate, may include: project labor agreements, community benefits agreements, collective bargaining agreements, agreements intended to ensure the uninterrupted delivery of services, agreements designed to facilitate first collective bargaining agreements, voluntary union recognition, and neutrality by the employer with respect to union organizing.

(b) Prioritize projects that enhance worker productivity by promoting family-sustaining wages. Examples of policies that implementing agencies could consider encouraging applicants to adopt, as appropriate, may include: payment of wages tied to a particular metric—such as wages not less than prevailing wages, the upper quartile of industry pay, or union pattern wage scales—including for workers in the care workforce, that is, individuals working in the fields of child care and long-term care; policies to promote equal pay and eliminate discriminatory pay practices, such as transparency measures; and other policies aligned with the Good Jobs Principles established by the Department of Commerce and the Department of Labor on June 21, 2022.

(c) Prioritize projects that supply critical benefits that promote economic security for workers, such as paid leave (including paid sick, family, and medical leave); health care; retirement benefits; and child, dependent, and elder care.

(d) Prioritize projects that promote and expand access to, and put in place policies that combat discrimination that limits employment in, high-quality jobs for workers from underserved communities. Examples of policies that implementing agencies could consider encouraging applicants to adopt, as appropriate, may include: workforce plans that contain strategies for recruiting, hiring, and retaining workers from underserved and local communities; policies that help prevent workplace discrimination and harassment, including through reporting structures and ongoing training; and participation in programs designed to support compliance with existing equal employment opportunity obligations under Executive Order 11246 of September 24, 1965 (Equal Employment Opportunity), as amended, section 503 of the Rehabilitation Act of 1973 (Public Law 93-112), the Vietnam Era Veterans' Readjustment Assistance Act of 1972 (Public Law 92-540), as amended, and their implementing regulations.

(e) Prioritize projects that strengthen workforce development by expanding worker access to high-quality training and portable credentials that lead to good jobs. Examples of policies that implementing agencies could consider encouraging applicants to adopt, as appropriate, may include: the use of joint labor-management partnerships that invest in union-affiliated training programs, registered apprenticeships, and pre-apprenticeship programs that matriculate to registered apprenticeships; partnerships with organizations that deliver training such as community colleges, career and technical education programs, disability service organizations, the public workforce system, and the American Climate Corps; and the provision of supportive services necessary to complete training such as child care and transportation assistance.

(f) Prioritize projects that promote and protect worker health and safety through policies that encourage supplemental safety training, worker and union participation in the design and implementation of workplace safety and health management systems, and disclosure of occupational safety and health violations.

Sec. 4. Implementation Approach. (a) Implementing agencies shall, as appropriate and consistent with applicable law, consider the following strategies in connection with their Federal financial assistance programs to promote the implementation priorities identified in section 3 of this order:

(i) including application evaluation criteria or selection factors that prioritize applicants that adopt or provide a specific plan to adopt those priorities;

(ii) publishing best practice guides and other guidance to applicants to promote and implement those priorities, including guides on what types of Federal financial assistance can be used for workforce development, such as supportive services;

(iii) engaging with applicants, where appropriate, during pre-award processes to ensure that applicants understand the benefits of those priorities for key programs and projects;

(iv) collecting relevant data to demonstrate funding recipients' progress, including by:

(A) requesting in funding notices or through other appropriate mechanisms that applicants address a series of “yes” or “no” questions regarding the implementation of those priorities to ensure transparency of labor practices and commitments;

(B) using existing compliance practices (such as the collection of certified payrolls when applicable) to collect detailed data on job quality, equity, and worker empowerment; and

(C) requesting reporting on key metrics and encouraging voluntary public reporting of additional relevant metrics developed by the implementing agency;

(v) promoting compliance with Federal law and commitments made by applicants, including, as appropriate, referring alleged violations of law to other executive departments and agencies for a determination of whether circumstances warrant the issuance of financial penalties or collection of relief for workers harmed, withholding further Federal financial assistance pending correction of a deficiency, recovery of some or all Federal funds, or debarment; and

(vi) supporting program staff and developing implementing agency expertise, including by consulting the Department of Labor and implementing agency labor advisors, to train program staff on how to implement those priorities and ensure that staff have the expertise needed to support the creation of good jobs through each phase of project delivery on federally assisted projects.

(b) Implementing agencies shall carry out their responsibilities under this order consistent with their responsibilities under the Justice40 Initiative set forth in Executive Order 14008 of January 27, 2021 (Tackling the Climate Crisis at Home and Abroad).

Sec. 5. Investing in Good Jobs Task Force. (a) There is established within the Executive Office of the President the Investing in Good Jobs Task Force (Task Force). The function of the Task Force is to coordinate policy development that supports efficient project delivery while also driving the creation of high-quality jobs and to otherwise support the effective implementation of this order. The Task Force shall be co-chaired by the Secretary of Labor and the Assistant to the President for Economic Policy and Director of the National Economic Council or their designees.

(b) In addition to the Co-Chairs, the Task Force shall consist of the following members or their designees:

(i) the Secretary of the Interior;

(ii) the Secretary of Agriculture;

(iii) the Secretary of Commerce;

(iv) the Secretary of Housing and Urban Development;

(v) the Secretary of Transportation;

(vi) the Secretary of Energy;

(vii) the Secretary of Education;

(viii) the Secretary of Homeland Security;

(ix) the Administrator of the Environmental Protection Agency;

(x) the Assistant to the President and National Climate Advisor;

(xi) the Senior Advisor to the President for International Climate Policy;

(xii) the Chair of the Council on Environmental Quality;

(xiii) the Chair of the Council of Economic Advisers;

(xiv) the Assistant to the President and Director of the Domestic Policy Council;

(xv) the Assistant to the President and Director of the Gender Policy Council; and

(xvi) the heads of other executive departments, agencies, and offices as the Co-Chairs may from time to time invite to participate.

(c) The Task Force shall assist implementing agencies in promoting the implementation priorities identified in section 3 of this order. To do so, the Task Force shall:

(i) share and, as appropriate, develop best practices related to promoting adoption of the implementation priorities identified in section 3 of this order, and provide technical assistance to implementing agencies in implementing these best practices;

(ii) support implementing agencies as they develop expertise in promoting efficient project delivery while also driving the creation of high-quality jobs; and

(iii) engage in other appropriate activities as determined by the Task Force, consistent with applicable law, to support effective implementation of this order.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 6, 2024.

[FR Doc. 2024-20712

Filed 9-10-24; 8:45 am]

Billing code 3395-F4-P